DEPARTMENT OF ENERGY

Office of Nuclear Energy, Science and Technology

AGENCY: Department of Energy.

ACTION: Notice of renewal.

SUMMARY: Pursuant to section 14(a)(2)(A) of the Federal Advisory Committee Act, App. 2, and section 101-6.1015(a), title 41, Code of Federal Regulations, and following consultation with the Committee Management Secretariat, General Services Administration, notice is hereby given that the Nuclear Energy Research Advisory Committee has been renewed for a two-year period beginning October 2, 2000.

FOR FURTHER INFORMATION CONTACT: Ms. Rachel M. Samuel at (202) 586-3279.

SUPPLEMENTARY INFORMATION: The Committee will continue to provide advice to the Director, Office of Nuclear Energy, Science and Technology, on long-term planning and priorities in the national nuclear energy research and development program. The Secretary of Energy has determined that renewal of the Committee is essential to the conduct of the Department's business and in the public interest in the connection with the performance of duties imposed upon the Department of Energy by law. The Committee will continue to operate in accordance with the provisions of the Federal Advisory Committee Act (Public Law Number 92-463), section 624 of the Department of Energy Act (Public Law Number 95-91), the General Services Administration Final Rule on Federal Advisory Committee Management, and other directives and instructions issued in implementation of those acts.

Issued in Washington D.C. on October 2, 2000.
James N. Solit,
Advisory Committee Management Officer.

[FR Doc. 00-25921 Filed 10-10-00; 8:45 am]

BILLING CODE 6450-01-P